DEPARTMENT OF HOMELAND SECURITY

Coast Guard

33 CFR Part 165

[Docket Number USCG-2021-0062]

RIN 1625-AA87

Security Zone: Electric Boat Shipyard, Groton, CT

AGENCY: Coast Guard, DHS.

ACTION: Final rule.

SUMMARY: The Coast Guard will modify the security zone boundaries surrounding the Electric Boat Shipyard in Groton, Connecticut. The amendment to the Security Zone is due to the expanding operations at Electric Boat Shipyard.

DATES: This rule is effective August 13, 2021.

ADDRESSES: To view documents mentioned in this preamble as being available in the docket, go to https://www.regulations.gov, type USCG-2021-0062 in the “SEARCH” box and click “SEARCH.” Click on Open Docket Folder on the line associated with this rule.

FOR FURTHER INFORMATION CONTACT: If you have questions on this rule, call or email Marine Science Technician 3rd Class Ashley Dodd, Waterways Management Division, Sector Long Island Sound; Tel: (203) 468-4469; Email: Ashley.M.Dodd@uscg.mil.

SUPPLEMENTARY INFORMATION:

I. Table of Abbreviations

CFR Code of Federal Regulations

DHS Department of Homeland Security

FR Federal Register

NPRM Notice of proposed rulemaking

§ Section

U.S.C. United States Code

II. Background Information and Regulatory History

Electric Boat Shipyard requested a modification to expand the currently existing security zone. In response, on April 13, 2021, the Coast Guard published a notice of proposed rulemaking (NPRM) titled Security Zone: Electric Boat Shipyard, Groton, CT (86 FR 19171). There we stated why we issued the NPRM, and invited comments on our proposed regulatory action related to this fireworks display. During the comment period that ended May 13, 2021, we received 1 comment.

III. Legal Authority and Need for Rule

The Coast Guard is issuing this rule under authority in 46 U.S.C. 70034 (previously 33 U.S.C. 1231). The purpose of this rule is to modify the location of the existing security zone listed in 33 CFR 165.154(a)(2). Captain of the Port Long Island Sound will add a new point in the definition of the security zone and replace two turning points. This allows the zone to encompass the new building for construction of submarines and floating dry dock.

IV. Discussion of Comments, Changes, and the Rule

As noted above, we received 1 comment on our NPRM published April 13, 2021. The comment submitted by an anonymous individual addressed a clerical error to the NPRM. The word “subversive” should have been used instead of “submersive” in the sentence “for this reason a security zone is established to safeguard from destruction, loss, or injury from sabotage or other submersive acts, or other causes of a similar nature to its waterfront facility and its vessels that they construct.” There are no changes in the regulatory text of this rule from the proposed rule in the NPRM.

Part 165 of 33 CFR contains specific regulated navigation areas and limited access areas to prescribe general regulations for different types of limited or controlled access areas and regulated navigation areas and list specific areas and their boundaries. Section 165.154 establishes Safety and Security Zones: Captain of the Port Long Island Sound Zone Safety and Security Zones.

The Coast Guard will modify the location of the existing security zone listed in 33 CFR 165.154(a)(2)(i) Safety and Security Zones: Captain of the Port Zone Safety and Security Zones, to expand the zone and to protect a new submarine construction facility and floating dry dock being built adjacent to the current facility.

V. Regulatory Analyses

We developed this rule after considering numerous statutes and Executive orders related to rulemaking. Below we summarize our analyses based on a number of these statutes and Executive orders, and we discuss First Amendment rights of protestors.

A. Regulatory Planning and Review

Executive Orders 12866 and 13563 direct agencies to assess the costs and benefits of available regulatory alternatives and, if regulation is necessary, to select regulatory approaches that maximize net benefits. This rule has not been designated a “significant regulatory action,” under Executive Order 12866. Accordingly, this rule has not been reviewed by the Office of Management and Budget (OMB).

This regulatory action determination is based on the size, location, and duration of the security zone. Vessel traffic would be able to safely transit around the security zone which would impact a small designated area of the Thames River.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard received 0 comments from the Small Business Administration on this rulemaking. The Coast Guard certifies under 5 U.S.C. 605(b) that this rule will not have a significant economic impact on a substantial number of small entities.

While some owners or operators of vessels intending to transit the safety zone may be small entities, for the reasons stated in section V.A above, this rule will not have a significant economic impact on any vessel owner or operator.

Under section 213(a) of the Small Business Regulatory Enforcement Fairness Act of 1996 (Pub. L. 104-121), we want to assist small entities in understanding this rule. If the rule would affect your small business, organization, or governmental jurisdiction and you have questions concerning its provisions or options for compliance, please call or email the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule will not call for a new collection of information under the Paperwork Reduction Act of 1995 (44 U.S.C. 3501-3520).

D. Federalism and Indian Tribal Governments

A rule has implications for federalism under Executive Order 13132, Federalism, if it has a substantial direct effect on the States, on the relationship between the National Government and the States, or on the distribution of power and responsibilities among the various levels of government. We have analyzed this rule under that Order and have determined that it is consistent with the fundamental federalism principles and preemption requirements described in Executive Order 13132.

Also, this rule does not have tribal implications under Executive Order 13175, Consultation and Coordination with Indian Tribal Governments, because it does not have a substantial direct effect on one or more Indian tribes, on the relationship between the Federal Government and Indian tribes, or on the distribution of power and responsibilities between the Federal Government and Indian tribes.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

F. Environment

We have analyzed this rule under Department of Homeland Security Directive 023-01, Rev. 1, associated implementing instructions, and Environmental Planning COMDTINST 5090.1 (series), which guide the Coast Guard in complying with the National Environmental Policy Act of 1969 (42 U.S.C. 4321-4370f), and have determined that this action is one of a category of actions that do not individually or cumulatively have a significant effect on the human environment. This rule involves expanding an already existing security zone to limit access near Electric Boat Shipyard. It is categorically excluded from further review under paragraph L60a of Appendix A, Table 1 of DHS Instruction Manual 023-01-001-01, Rev. 1. A Record of Environmental Consideration supporting this determination is available in the docket. For instructions on locating the docket, see the ADDRESSES section of this preamble.

G. Protest Activities

The Coast Guard respects the First Amendment rights of protesters. Protesters are asked to call or email the person listed in the FOR FURTHER INFORMATION CONTACT section to coordinate protest activities so that your message can be received without jeopardizing the safety or security of people, places or vessels.

List of Subjects in 33 CFR Part 165

Marine Safety, Navigation (water), Reporting and recordkeeping requirements, Waterways.

For the reasons discussed in the preamble, the Coast Guard amends 33 CFR part 165 as follows:

PART 165—REGULATED NAVIGATION AREAS AND LIMITED ACCESS AREAS

1. The authority citation for part 165 continues to read as follows:

Authority: 46 U.S.C. 70034, 70051; 33 CFR 1.05-1, 6.04-1, 6.04-6 and 160.5; Departmemt of Homeland Security Delegation No. 0170.1

2. Revise § 165.154 (a)(2) to read as follows:

§ 165.154 Safety and Security Zones; Captain of the Port Long Island Sound Zone Safety and Security Zones.

(a)* * *

(2) Electric Boat Shipyard, Groton, CT.

(i) Location. All navigable waters of the Thames River, from surface to bottom, West of the Electric Boat Corportation Shipyard enclosed by a line beginning at a point on the shoreline 41°20′ 16″ N, 72°04 ′ 47″ W; then running West to 41°20′ 16.2″ N, 72°04 ′58.0″ W; then running North to 41°20′28.7″ N, 72°05′01.7″ W; then North-Northwest to 41°20′53.3″ N, 72°05′04.8″ W; then North-Northeast to 41°21′02.9″ N, 72°05′04.9″ W; then running to shoreline at 41°21′02.9″ N, 72°04′58.2″ W (NAD 83).

(ii) Application. Paragraphs (a),(e), (f) of § 165.33 do not apply to public vessels or to vessels owned by, under hire to, or performing work for the Electric Boat Division when operating in the security zone.

Dated: July 8, 2021.
E.J. Van Camp,
Captain, U.S. Coast Guard, Captain of the Port Long Island Sound.

[FR Doc. 2021-14971 Filed 7-13-21; 8:45 am]

BILLING CODE 9110-04-P